DEPARTMENT OF TRANSPORTATION

Federal Aviation Administration

14 CFR Part 39

[Docket No. 94-ANE-08-AD; Amendment 39-13256; AD 2003-16-03]

RIN 2120-AA64

Airworthiness Directives; Turbomeca Arriel 1 Series Turboshaft Engines; Correction

AGENCY: Federal Aviation Administration, DOT.

ACTION: Final rule; correction.

SUMMARY: This document makes a correction to Airworthiness Directive (AD) 2003-16-03 applicable to Turbomeca Arriel 1 Series turboshaft engines that was published in the Federal Register on August 8, 2003 (68 FR 47208). Turbomeca Arriel turboshaft engine 1 C1 was omitted from the Applicability. This document corrects that omission. In all other respects, the original document remains the same.

EFFECTIVE DATE: Effective September 18, 2003.

FOR FURTHER INFORMATION CONTACT: Antonio Cancelliere, Aerospace Engineer, Engine Certification Office, FAA, Engine and Propeller Directorate, 12 New England Executive Park, Burlington, MA 01803-5299; telephone (781) 238-7751; fax (781) 238-7199.

SUPPLEMENTARY INFORMATION: A final rule AD, FR Doc. 03-19836, applicable to Turbomeca Arriel 1 Series turboshaft engines, was published in the Federal Register on August 8, 2003 (68 FR 47208). The following correction is needed:

PART 39—AIRWORTHINESS DIRECTIVES

§ 39.13 [Corrected]

On page 47209, in the third column, in the Applicability Section, the first sentence “This airworthiness directive (AD) applies to Turbomeca turboshaft engine models Arriel 1 A, 1 A1, 1 A2, 1 B, 1 C, 1 C2, 1 D, 1 D1, 1 E2, 1 K, 1 K1, 1 S, and 1 S1 that have not incorporated modification TU 202” is corrected to read, “This airworthiness directive (AD) applies to Turbomeca turboshaft engine models Arriel 1 A, 1 A1, 1 A2, 1 B, 1 C, 1 C1, 1 C2, 1 D, 1 D1, 1 E2, 1 K, 1 K1, 1 S, and 1 S1 that have not incorporated modification TU 202”.

Issued in Burlington, MA, on September 11, 2003.
Francis A. Favara,
Assistant Manager, Engine and Propeller Directorate, Aircraft Certification Service.

[FR Doc. 03-23816 Filed 9-17-03; 8:45 am]

BILLING CODE 4910-13-P